DEPARTMENT OF TRANSPORTATION

Federal Railroad Administration

49 CFR Part 225

[Docket No. FRA-2025-0124]

RIN 2130-AD59

Retiring Form FRA F 6180.107 and Form FRA F 6180.150

AGENCY: Federal Railroad Administration (FRA), Department of Transportation (DOT).

ACTION: Notice of proposed rulemaking (NPRM).

SUMMARY: This proposed rule would retire Form FRA F 6180.107, “Alternative Record for Illnesses Claimed to be Work-Related” (Form 6180.107), and Form FRA F 6180.150, “Highway User Injury Inquiry Form” (Form 6180.150). The proposed rule would also change the record retention period required under FRA's accident reporting regulations and make other technical corrections.

DATES: Comments on the proposed rule must be received by September 2, 2025. FRA may consider comments received after that date, but only to the extent practicable.

ADDRESSES: Comments: Comments related to Docket No. FRA-2025-0124 may be submitted by going to https://www.regulations.gov and following the online instructions for submitting comments.

Instructions: All submissions must include the agency name, docket number (FRA-2025-0124), and Regulatory Identification Number (RIN) for this rulemaking (2130-AD59). All comments received will be posted without change to https://www.regulations.gov; this includes any personal information. Please see the Privacy Act heading in the SUPPLEMENTARY INFORMATION section of this document for Privacy Act information related to any submitted comments or materials.

Docket: For access to the docket to read background documents or comments received, go to https://www.regulations.gov and follow the online instructions for accessing the docket.

FOR FURTHER INFORMATION CONTACT: Michael Wissman, Railroad Safety Specialist, Part 225, Federal Railroad Administration, telephone: 610-314-5729, email: michael.wissman@dot.gov; or Michael C. Spinnicchia, Attorney Adviser, Federal Railroad Administration, telephone: 202-713-7671, email: michael.spinnicchia@dot.gov.

SUPPLEMENTARY INFORMATION:

I. Background

Consistent with the deregulatory agenda of President Donald J. Trump and Secretary of Transportation Sean P. Duffy, which seeks to unleash America's economic prosperity without compromising transportation safety, FRA is reviewing its regulatory requirements in parts 200 through 299 of Title 49, Code of Federal Regulations (CFR). The requirements for FRA-regulated entities to report accidents and incidents meeting certain criteria are established in 49 CFR part 225, “Railroad Accidents/Incidents: Reports Classification, and Investigations.” Some of the requirements contained in part 225 could be updated to reduce burdens, make technical or conforming changes, or otherwise adjust to advancing technology without any adverse effect on railroad safety. Please review the Section-by-Section Analysis below for the relevant information related to each proposed change.

II. Section-by-Section Analysis

Section 225.3 Applicability

As is discussed in the Section-by-Section Analysis for § 225.33, FRA is proposing the removal of § 225.33(a)(11). Since the introductory text of § 225.3(b) currently references § 225.33(a)(3) through (11), FRA is proposing to revise this text to refer to § 225.33(a)(3) through (10).

Section 225.21 Forms

Section 225.25 Recordkeeping

FRA is proposing to retire Form 6180.107 and Form 6180.150. Form 6180.107 is a form railroads may use in lieu of Form FRA F 6180.98, “Railroad Employee Injury and/or Illness Record,” (Form 6180.98) to record illnesses claimed by an employee to be work-related but for which there is insufficient information for the railroad to determine work-relatedness. FRA initially proposed the creation of this form because it thought it would promote better accounting of contested illness claims, provide an appropriate audit trail, and “result in a body of information that can be used in the future for research into the causes of prevalent illnesses.” ¹

¹ 67 FR 63022, 63031 (Oct. 9, 2002).

Two decades later, the desired benefits of this form have not come to fruition as railroads rarely use this form. Furthermore, § 225.21(h) already allows railroads to use alternative designed forms, in lieu of Form 6180.98, to record accountable injuries and illnesses. Form 6180.107 is rarely used and has not achieved its desired goals. For railroads that want to continue using this form, § 225.21(h) would allow them to design their own form that is modeled after Form 6180.107. Therefore, FRA proposes retiring this form and removing §§ 225.21(j) and 225.25(i)-(j) which describe the requirements for completing Form 6180.107 or an alternative railroad-designed form in lieu of Form 6180.107.

Railroads are required to send Form 6180.150 to every potentially injured highway user in a highway-rail grade crossing accident. The form was designed to assist railroads in making determinations about whether a highway user incurred an injury that must be reported to FRA. However, similar to Form 6180.107, Form 6180.150's intended goals have not been attained. FRA estimates that railroads receive responses from approximately 1% of highway users that are sent this form. Thus, FRA is proposing retiring this form and removing § 225.21(k).

Section 225.27 Retention of Records

Paragraph (a) of this section creates two categories of retention periods for certain FRA forms and the monthly listing of injuries and illnesses required by § 225.25: a five-year retention period and a two-year retention period. In the interest of uniformity, FRA is proposing that all records subject to this paragraph have a single retention period. FRA expects that a five-year retention period is unnecessarily long. However, a two-year retention period may be too short given FRA's audit schedule. Thus, FRA is proposing to revise this paragraph so that all records must be retained for at least three years after the end of the calendar year to which they relate. Since FRA is proposing retiring Form 6180.107 and Form 6180.150, these forms have also been removed from proposed paragraph (a).

Section 225.33 Internal Control Plans

Paragraph (a)(11) of this section requires a railroad's internal control plan to include a statement specifying the name, title, and address of the custodian of a railroad's Form 6180.107's or the alternate railroad-designed forms. Since FRA is proposing retiring the Form 6180.107, FRA is also proposing removing this paragraph.

Section 225.35 Access to Records and Reports

Since FRA is proposing retiring Form 6180.107, it is also proposing removing the references to Form 6180.107 in paragraph (b) of this section. In addition, paragraph (b) incorrectly cites to § 225.31(b) for FRA's subpoena authority. FRA is proposing correcting this citation to § 225.31(a)(2).

Lastly, FRA will revise the FRA Guide for Preparing Accident/Incident Reports in accordance with any changes to part 225 finalized in this rulemaking.²

² https://railroads.dot.gov/elibrary/fra-guide-preparing-accidentincident-reports-0.

III. Regulatory Impact and Notices

A. Executive Order (E.O.) 12866 (Regulatory Planning and Review) and DOT Regulatory Policies and Procedures

FRA has considered the impact of this NPRM under E.O. 12866 (58 FR 51735, Oct. 4, 1993), Regulatory Planning and Review, and DOT Regulatory Policies and Procedures. The Office of Information and Regulatory Affairs within the Office of Management and Budget (OMB) determined that this NPRM is not a significant regulatory action under section 3(f) of E.O. 12866.

FRA analyzed the potential costs and benefits of this proposed rule. FRA concluded that this proposed rule may impart minimal additional burden on regulated entities, but overall would provide greater relief to railroads. Regulated entities may see a minimal increased burden to retain certain forms for an additional year under the proposed rule. However, those same entities would also see a decreased burden by other forms that have a shorter retention period (three years instead of five years). FRA expects any potential additional burden to be outweighed by the benefits of this NPRM, and therefore estimates the proposed rule to be overall cost beneficial. Because this proposed rule would retire two FRA Forms and change the retention period under § 225.27(a), this proposed rule would provide qualitative benefits by requiring regulated entities to fill out fewer forms and require less storage and retention. This rule will also provide flexibility by clarifying, simplifying, and updating the language of part 225.

B. E.O. 14192 (Unleashing Prosperity Through Deregulation)

E.O. 14192 (90 FR 9065, Jan. 31, 2025), Unleashing Prosperity Through Deregulation, requires that for “each new [E.O. 14192 regulatory action] issued, at least ten prior regulations be identified for elimination.” ³ Implementation guidance for E.O. 14192 issued by OMB (Memorandum M-25-20, Mar. 26, 2025) defines two different types of E.O. 14192 actions: an E.O. 14192 deregulatory action, and an E.O. 14192 regulatory action.⁴

³ Executive Office of the President. Executive Order 14192 of January 31, 2025. Unleashing Prosperity Through Deregulation. 90 FR 9065-9067 (Feb. 6, 2025).

⁴ Executive Office of the President. Office of Management and Budget. Guidance Implementing Section 3 of Executive Order 14192, Titled “Unleashing Prosperity Through Deregulation.” Memorandum M-25-20. March 26, 2025.

An E.O. 14192 deregulatory action is defined as “an action that has been finalized and has total costs less than zero.” This proposed rulemaking is expected to have total costs less than zero, and therefore it would be considered an E.O. 14192 deregulatory action upon issuance of a final rule. While FRA affirms that each amendment proposed in this NPRM has a cost that is negligible or “less than zero” consistent with E.O. 14192, FRA requests comment on the extent of the cost savings for the changes proposed in this NPRM.

C. Regulatory Flexibility Act and E.O. 13272

The Regulatory Flexibility Act (5 U.S.C. 601 et seq.), as amended by the Small Business Regulatory Enforcement Fairness Act of 1996,⁵ requires Federal agencies to consider the effects of the regulatory action on small business and other small entities and to minimize any significant economic impact. Accordingly, DOT policy requires an analysis of the impact of all regulations on small entities, and mandates that agencies strive to lessen any adverse effects on these businesses. The term small entities comprises small businesses and not-for-profit organizations that are independently owned and operated and are not dominant in their fields, and governmental jurisdictions with populations of less than 50,000 (5 U.S.C. 601(6)).

⁵ Public Law 104-121, 110 Stat. 857 (Mar. 29, 1996).

No regulatory flexibility analysis is required, however, if the head of an Agency or an appropriate designee certifies that the rule will not have a significant economic impact on a substantial number of small entities. This proposed rule may impart minimal additional burden under part 225, but overall would provide greater relief to railroads. This proposed rule offers flexibilities that would result in cost savings. By extending this regulatory relief, many regulated entities, including small entities, would experience a cost savings. Consequently, FRA certifies that the proposed action would not have a significant economic impact on a substantial number of small entities.

In accordance with section 213(a) of the Small Business Regulatory Enforcement Fairness Act of 1996 (Pub. L. 104-121, 110 Stat. 857), FRA wants to assist small entities in understanding this proposed rule so they can better evaluate its effects on themselves and participate in the rulemaking initiative. If the proposed rule would affect your small business, organization, or governmental jurisdiction and you have questions concerning its provisions or options for compliance, please consult the person listed under FOR FURTHER INFORMATION CONTACT.

D. Paperwork Reduction Act

This proposed rule offers regulatory flexibilities, and there are no new collection of information requirements contained in this proposed rule, in accordance with the Paperwork Reduction Act of 1995 (44 U.S.C. 3501-3520). The recordkeeping and reporting requirements already contained in part 225 were approved by the Office of Management and Budget (OMB) on December 5, 2023, and the information collection requirements thereby became effective when they were approved by OMB. The OMB approval number is 2130-0500, and OMB approval expires on December 31, 2026. However, this proposed rule will decrease the paperwork burden in 49 CFR part 225 by retiring Form 6180.107 and Form 6180.150. All other paperwork requirements within part 225 remain the same. By removing this reporting and recordkeeping requirement, the currently approved total burden of 30,284 hours will decrease by 904 hours for a revised estimate of 29,380 hours.

E. Environmental Assessment

FRA has analyzed this rule for the purposes of the National Environmental Policy Act of 1969 (NEPA). In accordance with 42 U.S.C. 4336 and DOT NEPA Order 5610.1C, FRA has determined that this rule is categorically excluded pursuant to 23 CFR 771.118(c)(4), “[p]lanning and administrative activities that do not involve or lead directly to construction, such as: [p]romulgation of rules, regulations, and directives.” This rulemaking is not anticipated to result in any environmental impacts, and there are no unusual or extraordinary circumstances present in connection with this rulemaking.

F. Federalism Implications

This proposed rule will not have a substantial effect on the States, on the relationship between the national government and the States, or on the distribution of power and responsibilities among the various levels of government. Thus, in accordance with E.O. 13132, “Federalism” (64 FR 43255, Aug. 10, 1999), preparation of a Federalism Assessment is not warranted.

G. Unfunded Mandates Reform Act of 1995

This proposed rule would not result in the expenditure, in the aggregate, of $100,000,000 or more, adjusted for inflation, in any one year by State, local, or Indian Tribal governments, or the private sector. Thus, consistent with section 202 of the Unfunded Mandates Reform Act of 1995 (Pub. L. 104-4, 2 U.S.C. 1532), FRA is not required to prepare a written statement detailing the effect of such an expenditure.

H. Energy Impact

E.O. 13211 requires Federal agencies to prepare a Statement of Energy Effects for any “significant energy action.” ⁶ FRA has evaluated this proposed rule in accordance with E.O. 13211 and determined that this proposed rule is not a “significant energy action” within the meaning of E.O. 13211.

⁶ 66 FR 28355 (May 22, 2001).

I. E.O. 13175 (Tribal Consultation)

FRA has evaluated this proposed rule in accordance with the principles and criteria contained in E.O. 13175, Consultation and Coordination with Indian Tribal Governments, dated November 6, 2000. The proposed rule would not have a substantial direct effect on one or more Indian tribes, would not impose substantial direct compliance costs on Indian tribal governments, and would not preempt tribal laws. Therefore, the funding and consultation requirements of E.O. 13175 do not apply, and a tribal summary impact statement is not required.

J. International Trade Impact Assessment

The Trade Agreement Act of 1979 ⁷ prohibits Federal agencies from engaging in any standards or related activities that create unnecessary obstacles to the foreign commerce of the United States. Legitimate domestic objectives, such as safety, are not considered unnecessary obstacles. The statute also requires consideration of international standards and, where appropriate, that they be the basis for U.S. standards. This rulemaking is purely domestic in nature and is not expected to affect trade opportunities for U.S. firms doing business overseas or for foreign firms doing business in the United States.

⁷ 19 U.S.C. Ch. 13.

K. Privacy Act Statement

In accordance with 5 U.S.C. 553(c), DOT solicits comments from the public to better inform its rulemaking process. DOT posts these comments, without edit, to http://www.regulations.gov, as described in the system of records notice, DOT/ALL-14 FDMS, accessible through www.transportation.gov/privacy. To facilitate comment tracking and response, we encourage commenters to provide their name, or the name of their organization; however, submission of names is completely optional. Whether or not commenters identify themselves, all timely comments will be fully considered. If you wish to provide comments containing proprietary or confidential information, please contact the agency for alternate submission instructions.

L. Rulemaking Summary

As required by 5 U.S.C. 553(b)(4), a summary of this rule can be found at regulations.gov, Docket No. FRA-2025-0124, in the SUMMARY section of this proposed rule.

List of Subjects in 49 CFR Part 225

Investigations, Penalties, Railroad safety, Reporting and recordkeeping requirements.

The Proposed Rule

For the reasons discussed in the preamble, FRA proposes to amend part 225 of chapter II, subtitle B of title 49, Code of Federal Regulations as follows:

1. The authority citation for part 225 continues to read as follows:

Authority: 49 U.S.C. 103, 322(a), 20103, 20107, 20901-20902, 21301, 21302, 21311; 28 U.S.C. 2461 note; and 49 CFR 1.89.

2. Revise § 225.3(b) introductory text to read as follows:

§ 225.3 Applicability.

* * * * *

(b) The Internal Control Plan requirements in § 225.33(a)(3) through (a)(10) do not apply to:

* * * * *

3. Remove § 225.21(j) and (k).

4. Remove § 225.25(i) and (j).

5. Revise § 225.27(a) to read as follows:

§ 225.27 Retention of records.

(a) Each railroad shall retain all of the following records for at least three years after the end of the calendar year to which they relate:

(1) Form FRA F 6180.98, “Railroad Employee Injury and/or Illness Record.”

(2) Monthly List of Injuries and Illnesses required by § 225.25.

(3) Form FRA F 6180.97, “Initial Rail Equipment Accident/Incident Record,” required by § 225.25.

(4) The Employee Human Factor Attachments (Form FRA F 6180.81, “Employee Human Factor Attachment”) required by § 225.12, that have been received by the railroad.

(5) The written notices to employees required by § 225.12 (Part I of Form FRA F 6180.78, “Notice to Railroad Employee Involved in Rail Equipment Accident/Incident Attributed to Employee Human Factor; Employee Statement Supplementing Railroad Accident Report”), that have been received by the railroad.

(6) The employee statements supplementing railroad accident reports described in § 225.12(g) (Part II of Form FRA F 6180.78, “Notice to Railroad Employee Involved in Rail Equipment Accident/Incident Attributed to Employee Human Factor; Employee Statement Supplementing Railroad Accident Report”), that have been received by the railroad.

* * * * *

6. Remove § 225.33(a)(11).

7. Revise § 225.35(b) to read as follows:

§ 225.35 Access to records and reports.

* * * * *

(b) Each railroad subject to this part shall also provide to any representative of the Federal Railroad Administration or of a State agency participating in investigative and surveillance activities under part 212 of this chapter or any other authorized representative access to relevant medical and claims records for examination and photocopying in a reasonable manner during normal business hours. Such representatives shall display proper credentials when requested. Each railroad shall identify the locations where a copy of any record and report required under this part is accessible for inspection and photocopying by maintaining a list of such establishment locations at the office where the railroad's reporting officer conducts his or her official business. A copy of any record and report required under this part shall be accessible within four business hours after the request. FRA will not assess a monetary penalty against the railroad for its failure to provide the requested documentation when circumstances outside the railroad's control preclude it from fulfilling the four-business-hour time limit and the railroad has made a reasonable effort to correct the problem. Should a railroad assert a legal privilege with respect to certain claims and medical records, failure to provide FRA access to such records would not constitute a violation of this section. FRA retains the right to issue a subpoena to obtain such records under 49 U.S.C. §§ 20107 and 20902 and §§ 209.7(a) and 225.31(a)(2) of this title, and the railroad may contest that subpoena.

Issued in Washington, DC.
Kyle D. Fields,
Chief Counsel.

[FR Doc. 2025-12194 Filed 6-27-25; 4:15 pm]

BILLING CODE 4910-06-P